DEPARTMENT OF HEALTH AND HUMAN SERVICES

Health Resources and Services Administration

National Advisory Council on Migrant Health; Notice of Meeting

In accordance with section 10(a)(2) of the Federal Advisory Committee Act (Pub. L. 92-463), notice is hereby given of the following meeting:

Name: National Advisory Council on Migrant Health (NACMH).

Dates and Times: November 2, 2016, 8:30 a.m. to 5:00 p.m., November 3, 2016, 8:30 a.m. to 5:00 p.m.

Place: Hotel Encanto de Las Cruces, 705 South Telshor Boulevard, Las Cruces, New Mexico 88011, Telephone: 575-522-4300, Fax: 575-521-4707.

Status: The meeting will be open to the public.

Purpose: The purpose of the meeting is to discuss services and issues related to the health of migratory and seasonal agricultural workers and their families and to formulate recommendations for the Secretary of the Department of Health and Human Services.

SUPPLEMENTARY INFORMATION: Members of the public interested in providing comments or questions to committee members should contact the Designated Federal Officer in advance.

Agenda: The agenda includes an overview of the Council's general business activities. The Council will also hear presentations from experts on issues impacting agricultural workers, including the status of agricultural worker health at the local and national levels. In addition, the Council will hold a public hearing where migratory and seasonal agricultural workers and community health workers will testify regarding matters affecting the health of migratory and seasonal agricultural workers. This hearing is scheduled for Thursday, November 3, 2016, from 9:30 a.m. to 12:30 p.m. at Hotel Encanto de Las Cruces. Agenda items are subject to change.

Individuals who plan to attend and need special assistance, such as sign language interpretation or other reasonable accommodations, should notify the contact person listed below at least 10 days prior to the meeting.

FOR FURTHER INFORMATION CONTACT: Esther Paul, Designated Federal Officer, NACMH, Office of Policy and Program Development, Bureau of Primary Health Care, Health Resources and Services Administration, 5600 Fishers Lane, 16N38B, Maryland 20857; phone number: (301) 594-4300.

Jason E. Bennett,
Director, Division of the Executive Secretariat.

[FR Doc. 2016-20533 Filed 8-25-16; 8:45 am]

BILLING CODE 4165-15-P